DEPARTMENT OF THE TREASURY

Office of Thrift Supervision

TierOne Bank Lincoln, Nebraska; Notice of Appointment of Receiver

Notice is hereby given that, pursuant to the authority contained in section 5(d)(2) of the Home Owners' Loan Act, the Office of Thrift Supervision has duly appointed the Federal Deposit Insurance Corporation as sole Receiver for TierOne Bank, Lincoln, Nebraska, (OTS No. 03309), on June 4, 2010.

Dated: June 7, 2010.
By the Office of Thrift Supervision.
Sandra E. Evans,
Federal Register Liaison.

[FR Doc. 2010-13989 Filed 6-10-10; 8:45 am]

BILLING CODE 6720-01-M